NUCLEAR REGULATORY COMMISSION

[Docket Nos. 50-285 and 50-298; NRC-2012-0014]

Omaha Public Power District, Nebraska Public Power District

AGENCY: Nuclear Regulatory Commission.

ACTION: Director's decision under 10 CFR 2.206; issuance.

SUMMARY: The U.S. Nuclear Regulatory Commission (NRC) has issued a director's decision with regard to petitions dated June 26 and July 3, 2011, filed by Mr. Thomas Saporito (the petitioner), requesting that the NRC take action with regard to Fort Calhoun Station (FCS), Unit 1 and Cooper Nuclear Station (CNS), respectively. The petitioner's requests and the director's decision are included in the SUPPLEMENTARY INFORMATION section of this document.

DATES: June 10, 2015.

ADDRESSES: Please refer to Docket ID NRC-2012-0014 when contacting the NRC about the availability of information regarding this document. You may obtain publicly-available information related to this document using any of the following methods:

• Federal Rulemaking Web site: Go to http://www.regulations.gov and search for Docket ID NRC-2012-0014. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

• NRC's PDR: You may examine and purchase copies of public documents at the NRC's PDR, Room O1-F21, One White Flint North, 11555 Rockville Pike, Rockville, Maryland 20852.

FOR FURTHER INFORMATION CONTACT: Fred Lyon, Office of Nuclear Reactor Regulation, U.S. Nuclear Regulatory Commission, Washington DC 20555-0001; telephone: 301-415-2296, email: Fred.Lyon@nrc.gov.

SUPPLEMENTARY INFORMATION: Notice is hereby given that the Director, Office of Nuclear Reactor Regulation, has issued a director's decision (ADAMS Accession No. ML14128A141) on petitions filed by the petitioner on June 26 and July 3, 2011 (ADAMS Accession Nos. ML11182B029 and ML11192A285, respectively). The petitioner supplemented the petitions by teleconference on August 29, 2011 (ADAMS Accession No. ML11256A036).

The petitioner requested that the NRC issue a confirmatory order against Omaha Public Power District (OPPD), the licensee for FCS, prohibiting the licensee from restarting FCS, and issue a confirmatory order to Nebraska Public Power District (NPPD), the licensee for CNS, requiring the licensee to bring CNS to a cold shutdown mode of operation, until: (1) The floodwaters subside to an appreciably lower level or to sea level, (2) the licensee upgrades its flood protection plan, (3) the licensee repairs and enhances its current flood protection berms, and (4) the licensee upgrades its station blackout procedures to meet a challenging extended loss of offsite power because of floodwaters and other natural disasters or terrorist attacks.

On August 29, 2011, the petitioner participated in a teleconference with the NRC's Petition Review Board. The meeting provided the petitioner an opportunity to provide additional information and to clarify issues cited in the petition. The transcript for that meeting is available in ADAMS under Accession No. ML11256A036.

The NRC sent a copy of the proposed director's decision to the petitioner, NPPD, and OPPD for comment on April 15, 2015 (ADAMS Accession Nos. ML15062A354, ML15062A362, and ML15062A366, respectively). The petitioner and the licensees were asked to provide comments within 14 days on any part of the proposed director's decision that was considered to be erroneous or any issues in the petition that were not addressed. The staff did not receive any comments on the proposed director's decision.

The Director of the Office of Nuclear Reactor Regulation has determined that the requests, to prevent the restart of FCS or to bring CNS to cold shutdown, be denied. The reasons for this decision are explained in the director's decision DD-15-05 pursuant to 10 CFR 2.206 of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 3rd day of June 2015.
For the Nuclear Regulatory Commission.
Michele G. Evans,
Acting Director, Office of Nuclear Reactor Regulation.

[FR Doc. 2015-14209 Filed 6-9-15; 8:45 am]

BILLING CODE 7590-01-P